DEPARTMENT OF ENERGY

Federal Energy Regulatory Commission

[Project No. 2197-035, North Carolina]

Yadkin, Inc.; Notice Extending Public Comment Period for Draft Environment Assessment

March 22, 2000.

Staff from the Federal Energy Regulatory Commission (Commission) are extending the public comment period for our draft environmental assessment (DEA) issued for the Yadkin Hydroelectric Project. The DEA analyzes the environmental impacts of a Shoreline Management Plan (SMP) filed for Commission approval. The Yadkin Project is located on the Yadkin-Pee Dee River in Montgomery, Stanly, Davidson and Rowan Counties, North Carolina. The Yadkin Project contains the following reservoirs: High Rock, Tuckertown, Narrows (Badin) and Falls.

Comments will be solicited on our DEA until April 17, 2000. The DEA was written by staff in the Commission's Office of Energy Projects. Commission staff believe the SMP would not constitute a major federal action significantly affecting the quality of the human environment. Copies of the DEA can be viewed on the web at www.ferc.fed.us/online/rims.htm. Call (202) 208-2222 for assistance. Copies are also available for inspection and reproduction at the Commission's Public Reference Room located at 888 First Street, NE, Room 2A, Washington, DC 20426, or by calling (202) 208-1371.

Anyone may file comments on the DEA. The public, federal and state resource agencies are encouraged to provide comments. All written comments must be filed by April 17, 2000. Send an original and eight copies of all comments marked with the project number P-2197-035 to: The Secretary, Federal Energy Regulatory Commission, 888 First Street, NE, Washington, DC 20426. If you have any questions regarding this notice, please call Steve Hocking at (202) 219-2656.

David P. Boergers,
Secretary.

[FR Doc. 00-7531 Filed 3-27-00; 8:45 am]

BILLING CODE 6717-01-M